DEPARTMENT OF COMMERCE

International Trade Adminstration

[A-351-858, A-791-827]

Certain Lemon Juice From Brazil and the Republic of South Africa: Antidumping Duty Orders

AGENCY: Enforcement and Compliance, International Trade Administration, Department of Commerce.

SUMMARY: Based on affirmative final determinations by the U.S. Department of Commerce (Commerce) and the U.S. International Trade Commission (ITC), Commerce is issuing antidumping duty orders on certain lemon juice (lemon juice) from Brazil and the Republic of South Africa (South Africa).

DATES: Applicable February 16, 2023.

FOR FURTHER INFORMATION CONTACT: Dakota Potts (Brazil) or Elizabeth Bremer and Zachary Shaykin (South Africa), AD/CVD Operations, Office IV, Enforcement and Compliance, International Trade Administration, U.S. Department of Commerce, 1401 Constitution Avenue NW, Washington, DC 20230; telephone: (202) 482-0223, (202) 482-4987, or (202) 482-2638, respectively.

SUPPLEMENTARY INFORMATION:

Background

In accordance with sections 735(d) and 777(i) of the Tariff Act of 1930, as amended (the Act), on December 23, 2022, Commerce published its affirmative final determinations in the less-than-fair-value (LTFV) investigations of lemon juice from Brazil and South Africa.¹ On February 6, 2023, the ITC notified Commerce of its final determinations, pursuant to section 735(d) of the Act, that an industry in the United States is materially injured within the meaning of section 735(b)(1)(A)(i) of the Act by reason of LTFV imports of lemon juice from Brazil and South Africa.²

¹ See Certain Lemon Juice from Brazil: Final Affirmative Determination of Sales at Less Than Fair Value, 87 FR 78939 (December 23, 2022); see also Certain Lemon Juice from the Republic of South Africa: Final Affirmative Determination of Sales at Less Than Fair Value, 87 FR 78928 (December 23, 2023).

² See ITC's Letter, Investigation Nos. 731-TA-1578-1579 (Final), dated February 6, 2023; see also Lemon Juice from Brazil and South Africa, 88 FR 8912 (February 10, 2023).

Scope of the Orders

The product covered by these orders is lemon juice from Brazil and South Africa. For a complete description of the scope of the orders, see the appendix to this notice.

Antidumping Duty Orders

Based on the above-referenced affirmative final determinations by the ITC that an industry in the United States is materially injured within the meaning of section 735(b)(1)(A)(i) of the Act by reason of LTFV imports of lemon juice from Brazil and South Africa,³ in accordance with sections 735(c)(2) and 736 of the Act, Commerce is issuing these antidumping duty orders. Moreover, because the ITC determined that imports of lemon juice from Brazil and South Africa are materially injuring a U.S. industry, unliquidated entries of such merchandise from Brazil and South Africa, entered or withdrawn from warehouse for consumption, are subject to the assessment of antidumping duties.

³ Id.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of lemon juice from Brazil and South Africa. With the exception of entries occurring after the expiration of the provisional measures period and before publication of the ITC's final affirmative injury determinations, as further described below, antidumping duties will be assessed on unliquidated entries of lemon juice from Brazil and South Africa entered, or withdrawn from warehouse, for consumption, on or after August 4, 2022, the date of publication of the Preliminary Determinations in the Federal Register.⁴

⁴ See Certain Lemon Juice from Brazil: Preliminary Affirmative Determination of Sales at Less Than Fair Value, Postponement of Final Determination, and Extension of Provisional Measures, 87 FR 47697 (August 4, 2022) (Brazil Preliminary Determination); see also Certain Lemon Juice from the Republic of South Africa: Preliminary Affirmative Determination of Sales at Less Than Fair Value, 87 FR 47707 (August 4, 2022) (South Africa Preliminary Determination); and Certain Lemon Juice from the Republic of South Africa: Postponement of Final Determination and Extension of Provisional Measures, 87 FR 56631 (September 15, 2022) (South Africa Postponement Notice).

Continuation of Suspension of Liquidation and Cash Deposits

Except as noted in the “Provisional Measures” section of this notice, in accordance with section 736 of the Act, Commerce will instruct CBP to continue to suspend liquidation on all relevant entries of lemon juice from Brazil and South Africa. These instructions suspending liquidation will remain in effect until further notice.

Commerce will also instruct CBP to require cash deposits equal to the amounts indicated below. Accordingly, effective on the date of publication in the Federal Register of the notice of the ITC's final affirmative injury determination, CBP will require, at the same time as importers would normally deposit estimated duties on this subject merchandise, a cash deposit equal to the cash deposit rates listed in the table below. The all-others rate applies to all producers or exporters not specifically listed, as appropriate.

Estimated Weighted-Average Dumping Margins

The estimated weighted-average dumping margins are as follows:

Brazil

Exporter/producer | Estimated weighted- average dumping margin (percent)
Citrus Juice Eireli | 22.31
Louis Dreyfus Company Sucos S.A | ⁵ 0.00
All Others | 22.31

South Africa

⁵ Merchandise produced and exported by Louis Dreyfus Company Sucos S.A. (LDC) is excluded from the Brazil order. This exclusion does not apply to merchandise produced by LDC and exported by any other company or merchandise produced by any other company and exported by LDC. Resellers of merchandise produced by LDC are also not entitled to this exclusion.

Exporter/producer | Estimated weighted- average dumping margin (percent)
Cape Fruit Processors Pty. Ltd | 47.89
Granor Passi (Pty.) Ltd | 73.69
All Others | 47.89

Provisional Measures

Section 733(d) of the Act states that suspension of liquidation pursuant to an affirmative preliminary determination may not remain in effect for more than four months, except where exporters representing a significant proportion of exports of the subject merchandise request that Commerce extend the four-month period to no more than six months. At the request of exporters that account for a significant proportion of exports of lemon juice from Brazil and South Africa, Commerce extended the four-month period to six months in these investigations.⁶ Commerce published the Preliminary Determinations on August 4, 2022.⁷

⁶ See Brazil Preliminary Determination; see also South Africa Postponement Notice.

⁷ See Brazil Preliminary Determination; see also South Africa Preliminary Determination.

The extended provisional measures period, beginning on the date of publication of the Preliminary Determinations, ended on January 30, 2023. Therefore, in accordance with section 733(d) of the Act and our practice,⁸ Commerce will instruct CBP to terminate the suspension of liquidation and to liquidate, without regard to antidumping duties, unliquidated entries of lemon juice from Brazil and South Africa entered, or withdrawn from warehouse, for consumption after January 30, 2023, the final day on which the provisional measures were in effect, until and through the day preceding the date of publication of the ITC's final affirmative injury determinations in the Federal Register. Suspension of liquidation and the collection of cash deposits will resume on the date of publication of the ITC's final determinations in the Federal Register.

⁸ See, e.g., Certain Corrosion-Resistant Steel Products from India, the People's Republic of China, the Republic of Korea and Taiwan: Amended Final Affirmative Antidumping Determination for India and Taiwan, and Antidumping Duty Orders, 81 FR 48390, 48392 (July 25, 2016).

Establishment of the Annual Inquiry Service Lists

On September 20, 2021, Commerce published the final rule titled “Regulations to Improve Administration and Enforcement of Antidumping and Countervailing Duty Laws” in the Federal Register.⁹ On September 27, 2021, Commerce also published the notice titled “Scope Ruling Application; Annual Inquiry Service List; and Informational Sessions” in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹¹

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

¹¹ Id.

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹²

¹² This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance, the new annual inquiry service list will be in place until the following year, when the Opportunity Notice for the anniversary month of the order is published.

Commerce may update an annual inquiry service list at any time as needed based on interested parties' amendments to their entries of appearance to remove or otherwise modify their list of members and representatives, or to update contact information. Any changes or announcements pertaining to these procedures will be posted to the ACCESS website at https://access.trade.gov.

Special Instructions for Petitioners and Foreign Governments

In the Final Rule, Commerce stated that, “after an initial request and placement on the annual inquiry service list, both petitioners and foreign governments will automatically be placed on the annual inquiry service list in the years that follow.” ¹³ Accordingly, as stated above, the petitioners and foreign governments should submit their initial entry of appearance after publication of this notice in order to appear in the first annual inquiry service list. Pursuant to 19 CFR 351.225(n)(3), the petitioners and foreign governments will not need to resubmit their entries of appearance each year to continue to be included on the annual inquiry service list. However, the petitioners and foreign governments are responsible for making amendments to their entries of appearance during the annual update to the annual inquiry service list in accordance with the procedures described above.

¹³ See Final Rule, 86 FR at 52335.

Notification to Interested Parties

This notice constitutes the antidumping duty orders with respect to lemon juice from Brazil and South Africa pursuant to section 736(a) of the Act. Interested parties can find a list of antidumping duty orders currently in effect at https://www.trade.gov/data-visualization/adcvd-proceedings.

These orders are published in accordance with section 736(a) of the Act and 19 CFR 351.211(b).

Dated: February 10, 2023.
Lisa W. Wang,
Assistant Secretary for Enforcement and Compliance.

Appendix

Scope of the Orders

The product covered by these orders is certain lemon juice. Lemon juice is covered: (1) with or without addition of preservatives, sugar, or other sweeteners; (2) regardless of the GPL (grams per liter of citric acid) level of concentration, brix level, brix/acid ratio, pulp content, clarity; (3) regardless of the grade, horticulture method (e.g., organic or not), processed form (e.g., frozen or not-from-concentrate), the size of the container in which packed, or the method of packing; and (4) regardless of the U.S. Department of Agriculture Food and Drug Administration (FDA) standard of identity (as defined under 19 CFR 146.114 et seq.) (i.e., whether or not the lemon juice meets an FDA standard of identity).

Excluded from the scope are: (1) lemon juice at any level of concentration packed in retail-sized containers ready for sale to consumers; and (2) beverage products, such as lemonade, that contain 20 percent or less lemon juice as an ingredient by actual volume. “Retail-sized containers” are defined as lemon juice products sold in ready-for-sale packaging (e.g., clearly visible branding, nutritional facts listed, etc.) containing up to 128 ounces of lemon juice by actual volume.

The scope also includes certain lemon juice that is blended with certain lemon juice from sources not subject to these orders. Only the subject lemon juice component of such blended merchandise is covered by the scope of these orders. Blended lemon juice is defined as certain lemon juice with two distinct component parts of differing country(s) of origin mixed together to form certain lemon juice where the component parts are no longer individually distinguishable.

The product subject to these orders is currently classifiable under subheadings 2009.31.4000, 2009.31.6020, 2009.31.6040, 2009.39.6020, and 2009.39.6040 of the Harmonized Tariff Schedule of the United States (HTSUS). Although the HTSUS subheadings are provided for convenience and customs purposes, the written description of the scope of these orders is dispositive.

[FR Doc. 2023-03282 Filed 2-15-23; 8:45 am]

BILLING CODE 3510-DS-P